ENVIRONMENTAL PROTECTION AGENCY

[ER-FRL-6670-9]

Environmental Impacts Statements; Notice of Availability

Responsible Agency: Office of Federal Activities, General Information (202) 564-7167 or http://www.epa.gov/compliance/nepa/.

Weekly receipt of Environmental Impact Statements

Filed 12/27/2005 through 12/30/2005

Pursuant to 40 CFR 1506.9.

EIS No. 20050548, Draft EIS, NPS, NC, North Shore Road, Great Smoky Mountains National Park, General Management Plan, Implementation, Fontana Dam, Swain County, NC, Comment Period Ends: 02/21/2006, Contact: Imelda Wegwerth 865-436-1302.

EIS No. 20050549, Draft EIS, BLM, AZ, Aqua Fria National Monument and Bradshaw-Harquahala, Proposed Resource Management Plan, Implementation, Yavapai County, AZ, Comment Period Ends: 04/07/2006, Contact: Chris Horyza 623-580-5628.

EIS No. 20050550, Final EIS, AFS, CA, North Fork Eel Grazing Allotment Management Project, Proposing to Authorize Cattle Grazing on Four Allotment, Six Rivers National Forest, Mad River Ranger District, North Fork Eel River and Upper Mad River, Trinity County, CA, Wait Period Ends: 02/06/2006, Contact: Julie Ranieri 707-441-3673.

EIS No. 20050551, Draft EIS, NAS, 00, Programmatic—Development of Advanced Radioisotope Power Systems, Two New Advanced RPS's: Multi-Mission Radioisotope Thermoelectric Generator (MMRTG) and Stirling Radioisotope Generator (SRG), Comment Period Ends: 02/21/2006, Contact: Dr. Ajay Misra 202-358-1588.

EIS No. 20050552, Draft EIS, FRC, FL, Cypress Pipeline Project and Phase VII Expansion Project, Construction and Operation, U.S. Army COE Section 10 and 404 Permits, Northern and Central Florida, Comment Period Ends: 02/21/2006, Contact: Thomas Russo 1-866-208-3372.

EIS No. 20050553, Final Supplement, STB, 00, Powder River Basin Expansion Project, New Information, Addressing Four Environmental Issues Remanded by the 8th Circuit Court of Appeals, Finance Docket No. 33407—Dakota, Minnesota, Eastern Railroad, SD, WY and MN, Wait Period Ends: 02/06/2006, Contact: Victoria Rutson 202-565-1545.

EIS No. 20050554, Draft EIS, IBR, ND, Red River Valley Water Supply Project, Development and Delivery of a Bulk Water Supply to meet Long-Term Water Needs of the Red River Valley, Implementation, ND, Comment Period Ends: 02/21/2006, Contact: Signe Snortland 701-250-4242, ext. 3619.

Amended Notices

EIS No. 20050542, Final Supplement, AFS, WA, Upper Charley Subwatershed Ecosystem Restoration Projects, Proposing to Amend the Umatilla National Forests Land and Resource Management Plan to Incorporate Management for Canada Lynx, Pomeroy Ranger District, Umatilla National Forest, Garfield County, WA, Wait Period Ends: 01/30/2006, Contact: Allen J. Ollila 701-227-7735. Revision of FR Notice Published on 12/30/2005: Correction to Wait Period from 02/13/2006 to 01/30/2006.

Dated: January 3, 2006.
Clifford Rader,
Environmental Protection Specialist, Office of Federal Activities.

[FR Doc. E6-24 Filed 1-5-06; 8:45 am]

BILLING CODE 6560-50-P